DEPARTMENT OF HOMELAND SECURITY

Coast Guard

33 CFR Part 165

[Docket No. USCG-2020-0358]

Safety Zones; Annual Firework Displays Within the Captain of the Port Sector Puget Sound Area of Responsibility

AGENCY: Coast Guard, DHS.

ACTION: Notification of non-enforcement of regulation.

SUMMARY: The Coast Guard will not enforce the Safety Zone for the Seattle Seafair Firework Display in Lake Washington, Seattle, WA in July 2020. The Captain of the Port Sector Puget Sound has determined that since Seafair has been cancelled in 2020, enforcement of this regulation is not necessary.

DATES: The Coast Guard does not plan to enforce the Safety Zone for the Seattle Seafair Firework Display in Lake Washington in 33 CFR 165.1332 in July 2020.

FOR FURTHER INFORMATION CONTACT: If you have questions about this notification of non-enforcement, call or email CWO2 William E. Martinez, Sector Puget Sound Waterways Management Division, U.S. Coast Guard; telephone 206-217-6051, email SectorPugetSoundWWM@uscg.mil.

SUPPLEMENTARY INFORMATION: The Coast Guard normally enforces the Seattle Seafair Firework Display in Lake Washington, Seattle, WA in 33 CFR 165.1332 annually during July. This year, the event organizers cancelled Seafair. Therefore, the Coast Guard does not plan to enforce the Seattle Seafair Firework Display in Lake Washington, Seattle, WA in 33 CFR 165.1332, in July 2020.

In addition to this notification of non-enforcement in the Federal Register, if the situation changes and the Captain of the Port Sector Puget Sound (COTP) determines that the regulated area needs to be enforced, the COTP will issue a Broadcast Notice to Mariners and provide actual notice of enforcement to any persons in the regulated area.

Dated: June 23, 2020.
L.A. Sturgis,
Captain, U.S. Coast Guard, Captain of the Port Sector Puget Sound.

[FR Doc. 2020-13987 Filed 7-8-20; 8:45 am]

BILLING CODE 9110-04-P